INTERNATIONAL TRADE COMMISSION

[Investigation No. 337-TA-1182]

Certain Argon Plasma Coagulation System Probes, Their Components, and Other Argon Plasma Coagulation System Components for use Therewith; Commission Determination Not to Review an Initial Determination Terminating the Investigation in Its Entirety; Termination of Investigation

AGENCY: International Trade Commission.

ACTION: Notice.

SUMMARY: Notice is hereby given that the U.S. International Trade Commission (“Commission”) has determined not to review an initial determination (“ID”) (Order No. 21) of the presiding administrative law judge (“ALJ”), terminating the investigation in its entirety based on a settlement agreement.

FOR FURTHER INFORMATION CONTACT: Ronald Traud, Esq., Office of the General Counsel, U.S. International Trade Commission, 500 E Street SW, Washington, DC 20436, telephone (202) 205-3427. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on November 8, 2019, based on a complaint filed by Erbe Elektromedizin GmbH of the Republic of Germany and Erbe USA, Inc. of Marietta, Georgia (collectively, “Erbe”). 84 FR 60451 (Nov. 8, 2019). The complaint alleges violations of section 337 of the Tariff Act of 1930, as amended, 19 U.S.C. 1337 based upon the importation into the United States, the sale for importation, or the sale within the United States after importation of certain argon plasma coagulation system probes, their components, and other argon plasma coagulation system components for use therewith by reason of infringement of certain claims of U.S. Patent Nos. D577,671; 7,311,707; 7,717,911; 9,510,889; and 9,603,653. Id. The complaint further alleges that a domestic industry exists. Id. After an amendment to the notice of investigation and complaint, 85 FR 12016 (Feb. 28, 2020), the respondents to the investigation are: (1) Olympus Corporation of Tokyo, Japan; (2) Olympus Corporation of the Americas of Center Valley, Pennsylvania; (3) Olympus America of Center Valley, Pennsylvania; (4) Olympus Surgical Technologies Europe of Hamburg, Republic of Germany; (5) Olympus Winter & lbe GmbH of Hamburg Republic of Germany; and (6) Gyrus Medical Ltd (collectively, “Olympus”). The Office of Unfair Import Investigations (“OUII”) is participating in the investigation. 84 FR at 60452.

On July 27, 2020, Erbe and Olympus filed a joint motion to terminate this investigation based on a settlement agreement. On August 6, 2020, OUII filed a response supporting the motion.

On August 10, 2020, the presiding ALJ issued Order No. 21, the subject ID, which grants the motion. The ID finds that the joint motion complies with Commission Rules 210.21(b)(1) and 201.6(a). The ID additionally finds that terminating the investigation would not adversely affect the public interest. No petitions for review were filed.

The Commission has determined not to review the subject ID. The investigation is hereby terminated in its entirety.

The Commission vote for this determination took place on August 25, 2020.

The authority for the Commission's determination is contained in section 337 of the Tariff Act of 1930, as amended (19 U.S.C. 1337), and in Part 210 of the Commission's Rules of Practice and Procedure (19 CFR part 210).

By order of the Commission.
Issued: August 25, 2020.
Lisa Barton,
Secretary to the Commission.

[FR Doc. 2020-19012 Filed 8-27-20; 8:45 am]

BILLING CODE 7020-02-P